FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Pallets In Motion, 929 W. Spruce Avenue, Inglewood, CA 90301, Officer: Kelvin R. Coze, Director (Qualifying Individual).

Tramer Air Transport, Inc., 175-01 Rockaway Blvd., Suite 328, Jamaica, NY 11434, Officer: Dominic Kwan, President (Qualifying Individual).

California Export Line, Inc., 373 Broadway, Suite D-5, New York, NY 10013, Officers: Yasser Mohamed Mahfouz, President (Qualifying Individual), Bindu Koil Parampil, Vice President.

Non-Vessel Operating Common Carrier and Ocean Freight Forwarder Transportation Intermediary Applicant

Love Box (Phil.) Ltd. Co., 32756 Hanford Ct., Union City, CA 94587, Officer: Antonio D. Tongson, CEO (Qualifying Individual).

Ocean Freight Forwarder—Ocean Transportation Intermediary Applicant

Ship Your Stuff, LLC dba Ship Your Stuff.Com, 2015 Malcolm Avenue, Los Angeles, CA 90049, Officers: Christopher Wilson, COO (Qualifying Individual), Pierre Sordain, CEO.

Dated: June 20, 2003.
Bryant L. VanBrakle,
Secretary.

[FR Doc. 03-16096 Filed 6-24-03; 8:45 am]

BILLING CODE 6730-01-P